DEPARTMENT OF AGRICULTURE

National Agricultural Statistics Service

Advisory Committee on Agriculture Statistics

AGENCY: National Agricultural Statistics Service, USDA.

ACTION: Notice of Renewal of the Charter for the Advisory Committee on Agriculture Statistics.

SUMMARY: The U.S. Department of Agriculture (USDA) is seeking renewal of the 2-year charter for its discretionary committee, the Advisory Committee on Agriculture Statistics.

Authority: The Advisory Committee on Agriculture Statistics was originally established by the Secretary of Commerce on July 16, 1962. The Committee is also established in accordance with the provisions of the Federal Advisory Committee Act (FACA), as amended, 5 U.S.C. App. 2.

FOR FURTHER INFORMATION CONTACT: Hubert H. Hamer, Chairperson, Agricultural Statistics Board, National Agricultural Statistics Service, U.S. Department of Agriculture, (202) 690-8141, or email hqdapp@nass.usda.gov.

SUPPLEMENTARY INFORMATION: Purpose: The purpose of the Committee is to advise the Secretary on the conduct of the periodic censuses and surveys of agriculture, other related surveys, and the types of agricultural information to obtain from respondents. The committee also prepares recommendations regarding the content of agriculture reports, and presents the views and needs for data of major suppliers and users of agriculture statistics. The committee draws on the experience and expertise of its members to form a collective judgment concerning agriculture data collected and the statistics issued by the National Agricultural Statistics Service (NASS). The duties of the Committee are solely advisory in nature.

Committee Membership: The Secretary of Agriculture will appoint the Committee's members for 2-year terms. Furthermore, members will serve for two-year terms, and can serve no more than three consecutive terms. The Committee is composed of 20 individuals with diverse capabilities distinguished by their broad range of knowledge and interest in, though not limited to, agricultural economics, rural sociology, farm policy analysis, and agricultural education. Members will also be drawn from representatives of state and local governments; agriculture-related industry and trade or marketing associations; major national farm organizations; and producer organizations. A representative from the Bureau of the Census, U.S. Department of Commerce, and a representative from the Economic Research Service, USDA, shall serve as ex officio members of the Committee. This Committee will be fairly balanced in its membership in terms of the points of view represented and the functions to be performed. Steps will be taken to encourage fresh points of view, such as establishing staggered membership terms and limiting the number of renewed memberships.

Equal opportunity practices in accordance with USDA policies will be followed in all appointments to the Committee. To ensure that the recommendations of the Committee have taken into account the needs of the diverse groups served by USDA, membership will include to the extent possible, individuals with demonstrated ability to represent minorities, women and persons with disabilities.

The USDA prohibits discrimination in all of its programs and activities on the basis of race, color, national origin, age, disability, and where applicable, sex, marital status, familial status, parental status, religion, sexual orientation, political beliefs, genetic information, reprisal, or because all or part of an individual's income is derived from any public assistance program.

More information can be found about the Committee's recent activities at: http://www.nass.usda.gov/About_NASS/Advisory_Committee_on_Agriculture_Statistics/index.asp.

Signed at Washington, DC, May 8, 2012.
Joseph T. Reilly,
Associate Administrator.

[FR Doc. 2012-12769 Filed 5-24-12; 8:45 am]

BILLING CODE 3410-20-P